DEPARTMENT OF COMMERCE

Foreign-Trade Zones Board

[T-2-2005]

Foreign-Trade Zone 105 North Kingstown, RI, Application for Temporary/Interim Manufacturing Authority, Southeastern New England Shipbuilding Corporation, (Shipbuilding), Notice of Approval

On March 25, 2005, an application was filed by the Executive Secretary of the Foreign-Trade Zones (FTZ) Board submitted by the Rhode Island Economic Development Corporation, grantee of FTZ 105, on behalf of Southeastern New England Shipbuilding Corporation (Senesco), requesting temporary/interim manufacturing (T/IM) authority for the construction and repair of tugboats, double-hulled liquid barges, and articulating tug/barges at the Senesco shipbuilding facility within FTZ 105 Site 2.

The application has been processed in accordance with T/IM procedures, as authorized by FTZ Board Order 1347 (69 FR 52857, 8-30-2004) including notice in the Federal Register inviting public comment (70 FR 17062, 4-4-2005). The FTZ staff examiner reviewed the application and determined that it meets the criteria for approval under T/IM procedures. The foreign-origin components approved for this activity are diesel engines (8408.10) and overfill alarms (8531.90). Pursuant to the authority delegated to the FTZ Board Executive Secretary in Board Order 1347, the application is approved, effective this date, until June 8, 2007, subject to the FTZ Act and the Board's regulations, including Section 400.28.

Dated: June 8, 2005.
Dennis Puccinelli,
Executive Secretary.

[FR Doc. 05-11815 Filed 6-14-05; 8:45 am]

BILLING CODE 3510-DS-S